Proclamation 10705 of February 29, 2024

National Colorectal Cancer Awareness Month, 2024

By the President of the United States of America

A Proclamation

The second leading cause of cancer death in the United States today is colorectal cancer, and approximately 150,000 people in this country will be diagnosed with the disease this year. During National Colorectal Cancer Awareness Month, we honor all the Americans we have lost to this cancer, those currently living with or surviving it, and the loved ones who stand firmly by their side. We recommit to supporting all those helping drive progress against cancer and delivering incredible care to those facing this disease. We affirm our goal of ending cancer as we know it, once and for all.

As a country, we have made impressive progress in the struggle to end cancer over the past several decades due to advancements in prevention, early-detection measures, and new medicines and therapies. Despite remarkable breakthroughs, every year, more Americans are diagnosed with cancer under the age of 50. Earlier detection and improved treatment of colorectal cancer continue to be critical goals of medical research. Further progress is also needed to improve outcomes for those who are disproportionately impacted by this disease—including Americans over the age of 45, Native Americans, Black Americans, and people with a family history of colorectal cancer.

There is still more work to be done to ensure more Americans can prevent, detect, treat, and survive colorectal cancer. That is why the First Lady and I reignited the Cancer Moonshot with the ambition to cut the cancer death rate by at least half in the next 25 years and improve the experience of patients and families touched by cancer. I worked with the Congress to secure $2.5 billion in bipartisan funding for the Advanced Research Projects Agency for Health (ARPA-H). The scientists, innovators, and public health professionals funded by ARPA-H are working day and night to create a quantum leap in the prevention, detection, and treatment of cancer and other deadly, life-threatening, and life-altering diseases. Along the way, they are forging partnerships to deliver results to the people who need them most. ARPA-H is also partnering with the National Institutes of Health, the National Cancer Institute, and other agencies to develop a new Biomedical Data Fabric Toolbox for Cancer, which will ensure that knowledge gained through research is available to as many experts as possible, with the goal of delivering groundbreaking innovations to patients sooner.

My Administration is also working tirelessly to get patients and their loved ones some much-needed breathing room by making cancer treatments more affordable. I was proud to strengthen Medicaid and the Affordable Care Act by expanding health care coverage to millions of Americans. Millions of people are saving $800 per year on health insurance premiums as a result of this extension. In addition, through the Inflation Reduction Act, the total out-of-pocket prescription drug costs for seniors and others with Medicare will be capped at $2,000 per year—including amounts they are required to pay for expensive cancer medications. For those on Medicare, we have also expanded access to health services that make it easier for patients and their families to navigate the complexities of cancer care. That includes dental services for people receiving certain kinds of cancer treatment, guidance from individuals who can help coordinate between health care teams, and community-based social services that can provide support outside of the health care system.

The independent United States Preventive Services Task Force recommends regular colorectal cancer screenings for all Americans starting at age 45. Colonoscopies and other preventive practices can detect cancer early, averting the disease before it starts. It is also recommended that all Americans should consult a doctor if they experience symptoms such as blood in their stool, a change in bowel activity, abdominal pain, bloating, persistent cramps, or unexplained weight loss. As part of my Administration's efforts to ensure people are able to receive timely screening, the Centers for Medicare and Medicaid Services recently finalized a rule stating that no Medicare beneficiary has to pay for a diagnostic colonoscopy after a positive non-invasive screening test, like at-home stool-based tests.

Nearly every family in America has been touched by cancer—including mine. During National Colorectal Cancer Awareness Month, let us recognize the absolute courage and strength of patients, survivors, and their families by coming together as a country to provide the support and hope they need.

NOW, THEREFORE, I, JOSEPH R. BIDEN JR., President of the United States of America, by virtue of the authority vested in me by the Constitution and the laws of the United States, do hereby proclaim March 2024 as National Colorectal Cancer Awareness Month. I encourage all citizens, government agencies, private businesses, non-profit organizations, and other groups to join in activities that will increase awareness and prevention of colorectal cancer. I also encourage Americans to visit HealthCare.gov and learn more about signing up for health coverage under the Affordable Care Act.

IN WITNESS WHEREOF, I have hereunto set my hand this twenty-ninth day of February, in the year of our Lord two thousand twenty-four, and of the Independence of the United States of America the two hundred and forty-eighth.

[FR Doc. 2024-04818

Filed 3-4-24; 11:15 am]

Billing code 3395-F4-P